DEPARTMENT OF HEALTH AND HUMAN SERVICES

Administration for Children and Families

Submission for OMB Review; Comment Request

Title: Evaluation of the Mentoring Children of Prisoners (MCP) Program.

OMB No.: New Collection.

Description: The Promoting Safe and Stable Families Amendments, as reauthorized (2006), amended Title IV-B of the Social Security Act (42 U.S.C. 629-629e) providing funding for nonprofit agencies that recruit, screen, train, and support mentors for children with an incarcerated parent or parents. The Family and Youth Services Bureau (FYSB) of the Administration for Children and Families, United States Department of Health and Human Services, administers the Mentoring Children of Prisoners (MCP) program. The MCP program provides children of prisoners with caring adult mentors, supporting one-to-one mentoring relationships. Research in other populations has shown that such relationships can lead to reductions in risk behaviors and improvements in academic, behavioral and psychological outcomes in children and youth. Although the MCP program was developed based on research documenting the efficacy of mentoring as a general intervention strategy, it is not yet known whether or not this particular intervention yields positive outcomes for the children of prisoners population. Little is known about how mentoring relationships work for these youth, and how effective mentoring relationships for children of prisoners differ from effective mentoring relationships for other youth. In addition, little is known about children of prisoners in general and thus a survey of MCP program youth has the potential to provide important data about this relatively unstudied population.

The evaluation and data collection proposed in this notice are to fulfill the statutory requirement under Section 8, subsection h(1) of the Child and Family Services Improvement Act of 2006, as amended, that the Secretary of the Department of Health and Human Services evaluate outcomes of the MCP program and report to Congress on the findings. The proposed data collections will support a study of the MCP program that measures the program's child outcomes and compares these outcomes in similar programs. The data collection also will provide general information about youth in the program. Finally, the study will include an administrative survey of grantees participating in the study. The proposed study will include baseline and follow-up surveys (to be administered approximately 12 months apart) of youth ages 9-16 in the MCP program and will compare changes in key behaviors for program youth against changes in behaviors of similar youth not enrolled in mentoring programs. By comparing changes for youth in the MCP program against changes for youth not in the program, we will be able to determine if MCP youths' behaviors are closer to the norm for their age group at follow-up than at program intake. If MCP youths' behaviors and outcomes are shown to improve relative to other groups, the MCP program has demonstrated the potential for positive impacts. The survey also will include some general informational questions about youth in the study so that HHS, policy makers, and practitioners can have a greater understanding of the life circumstances of these youth and of some of the challenges they may face.

The youth surveys will focus on measuring both attitudinal and behavioral changes in areas targeted by the MCP program including attitudes towards and performance in school; relationships with parents, peers and teachers; self-esteem; and engagement in a variety of risk behaviors, including alcohol and drug use and physical violence. They also will include questions about the living situations of youth in the study, their relationships with both incarcerated and non-incarcerated caregivers, and their relationships with other supportive adults in their communities.

The administrative survey of grantees will include questions about the programmatic structure of each grantee. It will provide information about variations in program administration, mentor activities, and youth served.

Respondents: Mentoring Children of Prisoners (MCP) grantees and non-MCP mentoring organizations.

Annual Burden Estimates:

Instrument | Number of respondents | Number of responses per respondent | Average burden hours per response | Total burden hours
Student Baseline Survey. | 625 | 1 | .5 | 312.5
Student follow-up Survey. | 500 | 1 | .5 | 250
Grantee Survey | 72 | 1 | 1 | 72

Estimated Total Annual Burden Hours: 634.5.

Additional Information: Copies of the proposed collection may be obtained by writing to the Administration for Children and Families, Office of Administration, Office of Information Services, 370 L'Enfant Promenade, SW., Washington, DC 20447, Attn: ACF Reports Clearance Officer. All requests should be identified by the title of the information collection. E-mail address: infocollection@acf.hhs.gov.

OMB Comment: OMB is required to make a decision concerning the collection of information between 30 and 60 days after publication of this document in the Federal Register. Therefore, a comment is best assured of having its full effect if OMB receives it within 30 days of publication. Written comments and recommendations for the proposed information collection should be sent directly to the following: Office of Management and Budget, Paperwork Reduction Project, FAX: 202-395-6974, Attn: Desk Officer for ACF.

Dated: March 5, 2007.
Robert Sargis,
Reports Clearance Officer.

[FR Doc. 07-1101 Filed 3-8-07; 8:45 am]

BILLING CODE 4184-07-M